DEPARTMENT OF THE TREASURY

Internal Revenue Service

Proposed Collection; Comment Request for Form 990-EZ; Correction

AGENCY: Internal Revenue Service (IRS), Treasury.

ACTION: Correction to notice and request for comments.

SUMMARY: This document contains corrections to a notice and request for comments, that was published in the Federal Register on Tuesday, July 8, 2008 (73 FR 39089) inviting the general public and other Federal Agencies to take this opportunity to comment on proposed and/or continuing information collections, as required by the Paperwork Reduction Act of 1995, Public Law 104-13 (44 U.S.C. 3506(c)(2)(A)) and as part of its continuing effort to reduce paperwork and respondent burden by the Department of the Treasury. Currently, the IRS is soliciting comments concerning Form 990-EZ, Short Form Return of Organization Exempt From Income Tax.

FOR FURTHER INFORMATION CONTACT: Requests for additional information or copies of the forms and instructions should be directed to Carolyn N. Brown, (202) 622-6688, or at Internal Revenue Service, Room 6129, 1111 Constitution Avenue, NW., Washington, DC 20224, or through the Internet, at Carolyn.N.Brown@irs.gov.

SUPPLEMENTARY INFORMATION:

Background

The notice and request for comments that is the subject of the corrections is required by the Paperwork Reduction Act of 1995, Public Law 104-13 (44 U.S.C. 3506(c)(2)(A)).

Need for Correction

As published, the notice and request for comments for Proposed Collection; Comment Request for Form 990-EZ contains errors that may prove to be misleading and are in need of clarification.

Correction of Publication

Accordingly, the publication of the notice and request for comments for Proposed Collection; Comment Request for Form 990-EZ, which were the subjects of FR Doc. E8-15462, is corrected as follows:

1. On page 39089, column 3, under the caption SUPPLEMENTARY INFORMATION:, lines 8 and 9 of the paragraph under “Abstract:”, the language “$100,000 and whose total assets at the end of the year are less than $250,000” is corrected to read “$1,000,000 and whose total assets at the end of the year are less than $2,500,000”.

2. On page 39089, column 3, under the caption SUPPLEMENTARY INFORMATION: line 3 of the paragraph under “Current Actions:”, the language “Schedules A, C, E, G, L and N of the” is corrected to read “Schedules A, B, C, E, G, L and N of the”.

LaNita Van Dyke,
Chief, Publications and Regulations Branch, Legal Processing Division, Associate Chief Counsel, (Procedure and Administration).

[FR Doc. E8-17253 Filed 7-28-08; 8:45 am]

BILLING CODE 4830-01-P